INTERNATIONAL TRADE COMMISSION

[Investigation No. 337-TA-849]

Certain Rubber Resins and Processes for Manufacturing Same Institution of Investigation Pursuant to 19 U.S.C. 1337

AGENCY: U.S. International Trade Commission.

ACTION: Notice.

SUMMARY: Notice is hereby given that a complaint was filed with the U.S. International Trade Commission on May 21, 2012, under section 337 of the Tariff Act of 1930, as amended, 19 U.S.C. 1337, on behalf of SI Group, Inc. of Schenectady, New York. A letter supplementing the complaint was filed on June 12, 2012. The complaint, as supplemented, alleges violations of section 337 based upon the importation into the United States, the sale for importation, and the sale within the United States after importation of certain rubber resins and processes for manufacturing same by reason of misappropriation of trade secrets, the threat or effect of which is to destroy or substantially injure an industry in the United States.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of investigation: Having considered the complaint, the U.S. International Trade Commission, on June 20, 2012, ordered that—

(1) Pursuant to subsection (b) of section 337 of the Tariff Act of 1930, as amended, an investigation be instituted to determine whether there is a violation of subsection (a)(1)(A) of section 337 in the importation into the United States, the sale for importation, or the sale within the United States after importation of certain rubber resins and processes for manufacturing same by reason of misappropriation of trade secrets, the threat or effect of which is to destroy or substantially injure an industry in the United States;

(2) For the purpose of the investigation so instituted, the following are hereby named as parties upon which this notice of investigation shall be served:

(a) The complainant is:

SI Group, Inc., 2750 Balltown Road, Schenectady, NY 12309.

(b) The respondents are the following entities alleged to be in violation of section 337, and are the parties upon which the complaint is to be served:

RedAvenue Chemical Corp. of America, 95 Mount Read Boulevard #149, Rochester, NY 14611-1923;

Thomas R. Crumlish, Jr., 2728 Edgemere Drive, Rochester, NY 14612-1151;

Precision Measurement International LLC, 8182 Pickering Place, Westland, MI 48185;

Sino Legend (Zhangjiagang) Chemical Co., Ltd., No. 99, Tianba Road, Yangtze International Chemical Industrial Park, Zhangjiagang City, JiangSu Province, China;

Sino Legend Holding Group, Inc., c/o Mr. Richard A. Peters, Harney Westwood & Riegels, 7502 International Commerce Centre, One Austin Road West, Kowloon, Hong Kong;

Sino Legend Holding Group Limited, C1, Rm. 1708 Nan Fung Tower, 173 Des Voeux Road Central, Hong Kong;

HongKong Sino Legend Group, Ltd., Flat 01B3 101F, Carnival Commercial Building, 18 Java Road, North Point, Hong Kong;

Red Avenue Chemical Co. Ltd., Red Avenue Group, 9/F, Citigroup Tower, 33 Hua Yuan Shi Qiao Rd., Pudong New Area, Shanghai 200120, China;

Ning Zhang, 668 Beachview Drive, North Vancouver, BC, V7G 1R1 Canada;

Quanhai Yang, Door 1, Unit 08c, Building 2, No. 9 Guanghua Road, Chaoyang District, Beijing, China;

Shanghai Lunsai International Trading Company, Building 7, Unit 102, No. 2899, Chuan Nan Feng Gong Road, Pudong New District, Shanghai City, China.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 20, 2012.
Lisa R. Barton,
Acting Secretary to the Commission.

[FR Doc. 2012-15490 Filed 6-25-12; 8:45 am]

BILLING CODE 7020-02-P